GENERAL SERVICES ADMINISTRATION

[Notice-MA-2023-01; Docket No. 2023-0002; Sequence No. 1]

Clarifying the Process for Meeting Federal Space Needs

AGENCY: Office of Government-wide Policy (OGP), General Services Administration (GSA).

ACTION: Notice of GSA Bulletin FMR C-2023-01, clarifying the process for meeting Federal space needs.

SUMMARY: This Federal Management Regulation (FMR) bulletin clarifies certain terms and concepts in part 102-83, Location of Space, to reflect current laws, executive orders (E.O.s), and Office of Management and Budget (OMB) bulletins and management procedure memoranda, thereby bringing Federal location policy into compliance with those governing authorities, particularly the E.O. on “Further Advancing Racial Equity and Support for Underserved Communities Through the Federal Government.”

DATES: Applicability Date: May 15, 2023.

FOR FURTHER INFORMATION CONTACT: For clarification of content, contact Mr. Chris Coneeney, Director, Real Property Policy Division, GSA Office of Government-wide Policy, at 202-208-2956, or email realpropertypolicy@gsa.gov. Please cite FMR Bulletin C-2023-01.

SUPPLEMENTARY INFORMATION:

Background

GSA Bulletin FMR C-2023-01 revokes U.S. General Services Administration (GSA) Bulletin FMR B-52 (B-52) in its entirety but retains previous clarifications from B-52 of certain other terms and concepts in part 102-83 of the Federal Management Regulation (FMR), “Location of Space,” to reflect current laws, executive orders (E.O.) and Office of Management and Budget (OMB) bulletins and management procedure memoranda. This bulletin brings federal location policy into compliance with current governing authorities, including E.O. 14091 of February 16, 2023, “Further Advancing Racial Equity and Support for Underserved Communities Through the Federal Government.”

Among other things, E.O. 14091 revoked E.O. 13946 of August 24, 2020, “Targeting Opportunity Zones and Other Distressed Communities for Federal Site Locations,” including the amendments it made to E.O. 12072 and E.O. 13006. In accordance with E.O. 14091, GSA is hereby revoking B-52 to remove all previous references to “Opportunity Zones,” “other distressed areas,” and other terms referenced in E.O. 13946.

FMR Bulletin C-2023-01 is available at https://www.gsa.gov/policy-regulations/regulations/federal-management-regulation/federal-management-regulation-fmr-related-files#RealPropertyManagement.

Krystal J. Brumfield,
Associate Administrator, Office of Government-wide Policy.

[FR Doc. 2023-10336 Filed 5-12-23; 8:45 am]

BILLING CODE 6820-14-P